DEPARTMENT OF COMMERCE

National Oceanic and Atmospheric Administration

50 CFR Part 679

[Docket No. 060223050-6162-02; I.D. 013006I]

RIN 0648-AT09

Fisheries of the Exclusive Economic Zone Off Alaska; Groundfish, Crab, Salmon, and Scallop Fisheries of the Bering Sea and Aleutian Islands Management Area and Gulf of Alaska

AGENCY: National Marine Fisheries Service (NMFS), National Oceanic and Atmospheric Administration (NOAA), Commerce.

ACTION: Final rule.

SUMMARY: NMFS issues a final rule implementing Amendments 78 and 65 to the Fishery Management Plan (FMP) for Groundfish of the Bering Sea and Aleutian Islands Management Area (BSAI), Amendments 73 and 65 to the FMP for Groundfish of the Gulf of Alaska (GOA), Amendments 16 and 12 to the FMP for Bering Sea/Aleutian Islands King and Tanner Crabs, Amendments 7 and 9 to the FMP for the Scallop Fishery off Alaska, and Amendments 7 and 8 to the FMP for Salmon Fisheries in the Exclusive Economic Zone off the Coast of Alaska. These amendments revise the FMPs by identifying and describing essential fish habitat (EFH), designating habitat areas of particular concern (HAPC), and include measures to minimize to the extent practicable adverse effects on EFH. This action is necessary to protect important habitat features to sustain managed fish stocks.

DATES: Effective on July 28, 2006.

ADDRESSES: Copies of the maps of EFH and HAPC management areas, the Environmental Impact Statement (EIS) for EFH Identification and Conservation, the Environmental Assessment/Regulatory Impact Review/Initial Regulatory Flexibility Analysis (EA/RIR/IRFA) for HAPC and the Final Regulatory Flexibility Analysis (FRFA) for this action may be obtained from NMFS, Alaska Region, Attn: Ellen Walsh, Records Officer, P.O. Box 21668, Juneau, AK 99802, or from the Alaska Region NMFS Web site at http://www.fakr.noaa.gov.

Written comments regarding the burden-hour estimates or other aspects of the collection-of-information requirements contained in this final rule may be submitted to NMFS, Alaska Region, and by e-mail to David_Rostker@omb.eop.gov, or fax to (202) 395-7285.

FOR FURTHER INFORMATION CONTACT: Melanie Brown, 907-586-7228 or e-mail at melanie.brown@noaa.gov.

SUPPLEMENTARY INFORMATION: The groundfish, crab, scallop, and salmon fisheries in the exclusive economic zone (EEZ) off Alaska are managed under their respective FMPs. The North Pacific Fishery Management Council (Council) prepared the FMPs under the authority of the Magnuson-Stevens Fishery Conservation and Management Act (Magnuson-Stevens Act), 16 U.S.C. 1801, et seq. Regulations implementing the FMPs appear at 50 CFR parts 679 and 680. General regulations governing U.S. fisheries also appear at 50 CFR part 600.

The Secretary of Commerce approved the FMP amendments for EFH and HAPC identification and conservation on May 3, 2006.

Background

Detailed information on the history of EFH requirements in the Magnuson-Stevens Act, litigation regarding EFH, gear effects on bottom habitat, Council actions, and summary of the EFH and HAPC amendments to Alaska fisheries FMPs implemented by this final rule are in the preamble to the proposed rule (71 FR 14470, March 22, 2006).

Regulatory Amendments

A description of the regulatory amendments to implement provisions for EFH and HAPC management follows.

Section 679.2 Definitions

The final rule revises the definition of “authorized fishing gear” to add dredge gear. This definition is necessary to establish restrictions on this gear type in habitat protection areas (HPAs) and habitat conservation zones (HCZs). To ensure consistency between the Federal and State of Alaska (State) regulations for the management of the scallop fishery, the final rule adds a definition for dredge that is the same as the State's definition at 5 Alaska Administrative Code 39.105(16).

To identify groups of gear for the purposes of EFH and HAPC management measures, the categories of bottom contact gear and mobile bottom contact gear are added to the authorized fishing gear definition. The definition for bottom contact gear lists dredge, hook-and-line, nonpelagic trawl, dinglebar, and pot gears. The definition for mobile bottom contact gear lists dredge, nonpelagic trawl, and dinglebar gears.

The final rule defines each management area established to protect EFH and HAPC. The definitions for the habitat conservation areas (HCAs), HPAs, and HCZs provide the names of the management areas and refer to tables in 50 CFR part 679 for the coordinates of each area to ensure accurate descriptions.

The final rule adds a definition for “federally permitted vessel” for purposes of the fishing restrictions in the HCAs, HPAs, and HCZs and for vessel monitoring systems (VMS). Federally permitted vessels are those vessels named on either a groundfish Federal fishing permit (FFP) or a Federal crab vessel permit (FCVP). These types of permits were identified for this purpose because they are required for anyone fishing for groundfish or crab species in the EEZ, are easily obtained compared to other types of Federal fishing permits that require catch history, and can be easily relinquished and reissued. The ability to easily relinquish and reissue the groundfish FFPs and FCVPs provides the fisher the flexibility to choose whether to participate in activities that require compliance with the EFH and HAPC restrictions and VMS requirements. This new definition ensures the EFH and HAPC provisions do not apply to vessels named only on other types of federal fishing permits.

The final rule adds a definition of “operate a vessel” for the purpose of describing when a VMS is required to be transmitting. A vessel is operating any time it is offloading or processing fish; is in transit to, from, or between the fishing areas; or is fishing or conducting operations in support of fishing.

Section 679.4 Permits

Currently, license limitation permits (LLPs) are issued for fishing groundfish in the GOA with a trawl, non-trawl, or both trawl and non-trawl gear endorsements. The Council recommended that vessels named on an LLP with a trawl endorsement be allowed to use non-trawl gear to fish for slope rockfish within the Gulf of Alaska Slope Habitat Conservation Areas (GOASHCAs). The final rule revises paragraph (k)(3)(iv)(A) to allow vessels named on an LLP with a trawl endorsement to use non-trawl gear to fish for slope rockfish within the GOASHCAs. This revision provides some accommodation to vessels named on an LLP endorsed only for trawl gear, if the operator is willing to use non-trawl gear to fish for slope rockfish within the GOASHCA.

Section 679.7 Prohibitions

The current pelagic trawl performance standard does not apply to the Community Development Quota (CDQ) pollock fishery. To ensure all directed fishing for pollock follows the performance standard at § 679.7(a)(14), the final rule revises the prohibition to make it applicable to all pollock directed fisheries. Background on the CDQ pollock fishery and the trawl performance standard is detailed in the proposed rule (71 FR 14470, March 22, 2006).

To ensure all directed fishing for pollock is conducted using pelagic trawl gear that meets the performance standard at § 679.7(a)(14), the final rule revises this prohibition to delete the word “non-CDQ,” thereby making the prohibition applicable to all pollock directed fisheries. This revision ensures that all directed fishing for pollock in the BSAI is conducted with pelagic trawl gear in a manner that has less potential impact on bottom habitat.

A new paragraph (a)(20) is added to prohibit the anchoring of any federally permitted fishing vessel in an HPA. This prohibition applies to any vessel named on an FFP or FCVP. Anchoring may disturb bottom habitat during deployment and retrieval of the anchor and is included in those activities that are prohibited in these fragile and sensitive bottom habitat areas.

The final rule also adds two new paragraphs (a)(21) and (22) to address the VMS requirements for EFH and HAPC management. Paragraph (a)(21) prohibits all vessels named on an FFP or FCVP from operating in the Aleutian Islands subarea without an operable VMS and without complying with the requirements at § 679.28. Paragraph (a)(22) prohibits all vessels named on an FFP or FCVP from operating in the GOA with mobile bottom contact gear on board without an operable VMS and without complying with the requirements at § 679.28.

Section 679.22 Closures

The final rule adds fishing closures in the BSAI and GOA. Paragraph (a)(12) is revised, and paragraphs (a)(13), (a)(14), and (a)(15) are added to the closures listed for the BSAI to include the Aleutian Islands Coral Habitat Protection Areas (AICHPAs), Aleutian Islands Habitat Conservation Area (AIHCA), Bowers Ridge Habitat Conservation Zone (BRHCZ), and Alaska Seamount Habitat Protection Areas (ASHPAs), respectively. The final rule adds new paragraphs (b)(8), (b)(9), and (b)(10) to the closures listed for the GOA to include the Gulf of Alaska Coral Habitat Protection Areas (GOACHPAs), GOASHCAs, and ASHPAs, respectively. Portions of the ASHPAs occur in both the BSAI and GOA. Therefore, the closures for these HPAs are addressed under both management areas. Each new paragraph refers to the respective new table in 50 CFR part 679 that contains the coordinates for that management area. The final rule prohibits fishing with bottom contact gear by federally permitted vessels in the HPAs. It also prohibits fishing with nonpelagic trawl gear in the HCAs and fishing in the HCZ with mobile bottom contact gear.

Section 679.24 Gear Limitations

Existing gear limitations prohibit the use of nonpelagic trawl gear for the directed fishing of non-CDQ pollock in the BSAI. Directed fishing for CDQ pollock was not included in this prohibition for the same reasons stated in the proposed rule (71 FR 14470, March 22, 2006) for the trawl performance standard pursuant to § 679.7(a)(14)(i). To ensure all directed fishing for pollock is conducted with pelagic trawl gear that meets the trawl performance standard, the final rule revises paragraph (b)(4) to remove the term “non-CDQ.” This revision prevents potential opportunistic use of nonpelagic trawl gear for pollock harvest in any CDQ trawl fishery, ensuring that all directed fishing for pollock is conducted with pelagic trawl gear that must meet the trawl performance standard and that is less likely to impact bottom habitat.

Section 679.28 Equipment and Operational Requirements

The final rule revises paragraph (f)(3)(iv) to clarify when a vessel operator must stop fishing because of VMS transmission problems. The paragraph currently specifies that fishing must stop if the vessel operator is informed by NMFS that the VMS is not transmitting properly. The final rule further requires that fishing must stop if the vessel operator determines that the VMS is not transmitting properly. This revision ensures that fishing is stopped as soon as possible after either NMFS or the vessel operator determines that the VMS is not functioning properly.

The final rule also revises paragraph (f)(6) to clarify when a VMS must be transmitting for all vessels that are required to have a VMS. For purposes of EFH and HAPC management, the final rule requires VMS transmission while a vessel is operating in the Aleutian Islands subarea or while a vessel is operating in the GOA with mobile bottom contact gear on board.

Tables to 50 CFR Part 679

The final rule adds six new tables to 50 CFR part 679 to identify and describe the EFH and HAPC management areas that are defined in § 679.2 and closed to certain gear types in § 679.22 or anchoring under § 679.7. Each table lists the individual sites by name and number within each management area and provides the coordinates needed to locate the boundaries of each site. These tables are necessary to ensure that the fishery participants and State and Federal enforcement staff are able to identify those areas that are restricted to fishing activities.

Comments and Responses

NMFS received 11 comment letters on the proposed rule that contained 19 separate comments. The following summarizes and responds to these comments.

Comment 1: The Federal Register notice of the FMP amendments is hard to understand and should be rewritten and published. The agency is attempting to mislead the public.

Response: The FMP amendments are large and complex changes to five FMPs. NMFS provided a concise summary of each of the changes to the FMPs in the Federal Register notice (71 FR 6031, February 6, 2006). In that notice, the public was provided the name, phone number and e-mail address of a contact person and a Web site where additional information is available if a proposed action is not explained to a reader's satisfaction. The Federal Register notice of availability of the FMP amendments provided sufficient information to the public and additional sources of information for more details. The notice will not be republished.

Comment 2: NMFS has conflicts of interest by financing fishing vessels and receiving profits from fishing activities. The public loses when NMFS lets the commercial fishing industry run rampant over the nation's resources.

Response: The Magnuson-Stevens Act does provide for a Fisheries Finance Program that makes long-term fisheries loans for vessels and shoreside facilities. NMFS receives no financial support from fishing activities, except to recover the costs of administration for certain programs such as the individual fishing quota program for halibut, sablefish, and crab. NMFS disagrees that these programs create a conflict of interest. The FMP amendments for EFH and HAPC will result in restrictions on fishing activities to preserve our nation's marine resources.

Comment 3: In general, we support the Council's recommendations and the Secretary of Commerce's approval of the FMP amendments and their implementing regulations.

Response: Support is noted.

Comment 4: The EFH EIS supports status quo for the GOA and the Bering Sea. The Aleutian Islands subarea has high coral density, highly repetitive fishing patterns, and extensive areas that have not been trawled, unlike the GOA and Bering Sea. We agree with the Council's recommended protection measures for the Aleutian Islands subarea.

Response: Support is noted. Even though the EFH EIS determined that the impacts of fishing on EFH in these management areas are no more than minimal, the Council and NMFS have the authority to implement measures necessary for the conservation and management of fishery resources, including precautionary measures to protect EFH. The Council recommended new conservation measures for EFH in the Aleutian Islands and GOA, but deferred any new conservation measures for the Bering Sea pending additional analysis.

Comment 5: The State of Alaska recently took emergency action to protect the AICHPAs. We encourage the Council and NMFS to continue to work with the State of Alaska to implement other EFH and HAPC protection measures in the proposed rule.

Response: Once the EFH and HAPC regulations are finalized, NMFS and the Council will work with the State of Alaska to develop parallel closures in State waters and fisheries. This issue is scheduled for review by the State of Alaska Board of Fisheries in October 2006.

Comment 6: In the preamble to the proposed rule, the comparison of the effect of pelagic and nonpelagic trawl gears on the bottom is not accurate. All components of a nonpelagic trawl are designed to contact the bottom, whereas only the bosom of the footrope of a pelagic trawl is likely to contact the bottom. The comparison should not use the words “as aggressively” to describe the type of impact of these two gear types on bottom habitat.

Response: NMFS appreciates the commenter's more descriptive comparison of the bottom contact of pelagic and nonpelagic trawl gear. The comparison in the proposed rule was intended to be general and indicate that pelagic trawl gear has less contact and potentially fewer impacts than nonpelagic trawl gear.

Comment 7: The use of the term off-bottom mode in describing fishing with pelagic trawl gear is misleading. The trawl performance standards (§ 679.7(a)(14)) and the gear limitations in the GOA (§ 679.24(b)(4)) are established to ensure pelagic trawl gear is operated in a manner that is less likely to impact the bottom. The performance standard and gear limitation do not preclude the pelagic trawl from contacting the bottom. The public may have assumed that the proposed rule included an off-bottom mode standard for pelagic trawl. Any statement in the final rule regarding fishing for pollock with pelagic gear should not include the phrase off-bottom mode and only should use the pelagic trawl gear performance standard and gear limitation, as specified in the regulations.

Response: NMFS agrees with the comments and has incorporated the requested language.

Comment 8: The performance standards for pelagic trawl gear are inadequate to prevent seafloor habitat impacts in the AICHPAs, the BRHCZ and the ASHPAs. Although trawling within the performance standard is characterized as off-bottom mode, the standard could allow for significant seafloor impacts. A stronger performance standard is needed to prevent pelagic trawl gear from impacting these sensitive habitats through bottom contact. In the BSAI, the pelagic trawl performance standard based on crabs is not indicative of the lack of habitat impacts and does not provide adequate controls on pelagic trawling in EFH and HAPC management areas. The footrope may be contacting the floor even though crabs may not be observed by being retained in the net. The GOA gear limitation allowing pelagic trawl gear contact of the bottom for no more than 10 percent of the tow could result in large areas being impacted as some tows may extend for several miles. A footrope contacting the bottom may be particularly damaging to animals anchored on or residing in the upper sediments of the seafloor. The Council recommended prohibiting the use of pelagic trawl gear that contacts the bottom in areas where bottom contact gear is prohibited. They also recommended the use of pelagic trawl gear in an off-bottom mode in the AIHCA. A more stringent and enforceable performance standard is needed to ensure pelagic trawl gear is operated in a manner that does not contact the bottom in areas where bottom contact gear is prohibited and to ensure operation without bottom contact in areas where pelagic trawl gear in an off-bottom mode is allowed.

Response: See comment 7. NMFS agrees that the current performance standard in the BSAI and gear limitation in the GOA for pelagic trawl gear do not eliminate the possibility that pelagic trawl gear may contact the bottom. However, the EFH EIS determined that given the location and use of pelagic trawl gear in the Aleutian Islands subarea and GOA, no impact on habitat was likely to occur (see ADDRESSES). The Aleutian Islands subarea and GOA areas protected by this final rule are comprised of either very deep waters or rocky substrate that fishers using pelagic trawl gear avoid. Thus, this final rule provides adequate assurance that pelagic trawl gear fisheries would not adversely impact protected habitat areas in the Aleutian Islands subarea and GOA.

The EFH EIS determined that pelagic trawl gear is likely to contact soft bottom substrate that is prevalent in the Bering Sea. The Council is reevaluating the potential effects of fishing on Bering Sea habitat. If fishing activities are determined to affect Bering Sea habitat, the Council may recommend protection measures. The development of any protection measures likely would include evaluation of the current pelagic trawl gear performance standard and whether the current standard would meet Council objectives for protection of habitat in the Bering Sea.

Comment 9: NMFS’ conclusion that the effects of fishing on EFH are no more than minimal and temporary is fundamentally incorrect and based on an unlawful analysis and standard. The conclusion of adverse impact should not be dependent on identifying the decline in productivity of a managed species. The Council's Scientific and Statistical Committee and the Center for Independent Experts told the Council and NMFS that this was too high a standard for which scientific information is missing. The adverse effects of fishing on EFH must be minimized to the extent practical.

Response: NMFS responded to the commenter's concerns about the analysis of the effects of fishing on EFH in Appendix L to the final EFH EIS. In summary, NMFS appropriately considered the productivity of managed species to assess whether habitat disturbance caused by fishing reduces the capacity of EFH to support those species. In the final EIS, NMFS reevaluated the effects of fishing on EFH and examined whether stock status and trends indicate any potential influence of habitat disturbance due to fishing. The analysis considered whether credible evidence exists to support a conclusion that disturbance to EFH caused by fishing reduces the capacity of EFH to support managed species. The analysis indicated that there are long-term effects of fishing on benthic habitat features, yet the effects on EFH are minimal because NMFS found no indication that continued fishing activities at the current rate and intensity alter the capacity of EFH to support healthy populations of managed species over the long term.

Comment 10: We have two concerns regarding the closures in Southeast Alaska to all bottom contact gear: (1) Little information exists documenting negative fixed gear impacts in this area and (2) the proposed regulations contradict the statutory language which recommends closure areas to be in pristine or undisturbed state. Data indicate that extensive and historic fixed gear effort has occurred in Southeast Alaska. Southeast Alaska should be designated for research purposes only because bottom trawling is prohibited in Southeast Alaska and fixed gear has been used in this area for nearly a century without damaging coral or sponge habitat. We appreciate NMFS’ efforts to establish closure areas that include only identified sensitive habitat without surrounding productive fishing grounds.

Response: The GOACHPAs located in Southeast Alaska were developed based on in situ submersible observations by NOAA scientists who documented the presence of unusually dense thickets of red tree corals. These corals are large, branching, fragile, and very slow growing structures that enhance the complexity of bottom habitats. They are susceptible to physical disturbance from fishing gear that comes in contact with them, including fixed gear. As discussed in the EA/RIR/IRFA (see ADDRESSES), longline gear can lie slack and meander along the bottom. During retrieval, the gear can snag on rocks and corals, resulting in corals that are broken, tipped over, or dragged along the sea floor. The areas identified for closure are relatively undisturbed, and the purpose of the closures is to prevent potential future disturbance to those habitat features. The closure areas were identified with active participation from the fishing industry, and the size of the closures was reduced in response to that input. The applicable statutory language for addressing the effects of fishing on habitat is in section 303(a)(7) of the Magnuson-Stevens Act, which requires that fishery management plans “minimize to the extent practicable the adverse effects of fishing on [EFH].” Such areas do not have to be in a pristine or undisturbed state, as suggested by the commenter.

Comment 11: VMS is a necessary tool for enforcement, fisheries management, and to increase fishing opportunities. VMS is useful for large vessels fishing over vast areas but is not appropriate for small vessels operating in densely fished areas like Southeast Alaska. NMFS should investigate ways to ease the cost of VMS, especially for small vessels. Difficulties in implementing VMS should not delay the implementation of the EFH and HAPC regulations.

Response: In the GOA, VMS requirements in this rule apply only to vessels with an FFP or FCVP and mobile bottom contact gear on board. NMFS agrees that implementation of the EFH and HAPC regulations should not be delayed by difficulties in implementing VMS and that VMS is a necessary tool for fisheries management and enforcement. VMS is useful for tracking vessel locations for small and large vessels. VMS is important for enforcing EFH protection areas, which are impacted more by the gear type than the vessel size. The FRFA analysis shows that in most instances, the cost of VMS is reasonable for small vessels. Some vessels may have a very small portion of their income derived from fishing activities that require VMS, making the cost of VMS higher relative to the revenue from those fishing activities. It is up to the vessel owner and operator to determine if the income from a fishing activity requiring VMS justifies the expense for the VMS. In the past, NMFS has purchased VMS units for some participants in the groundfish fisheries. For fiscal year 2006, NMFS has a national VMS reimbursement program for vessel owners who are required by regulations promulgated in 2006 to install and operate a VMS unit for the first time. The details of this program will be available in late summer 2006 through the Alaska Region Web site at http://www.fakr.noaa.gov.

Comment 12: The legal, enforcement, and conservation concerns regarding VMS on small vessels need to be resolved before implementing the requirement. What happens if the technology fails? For example, what happens if the VMS fails while the vessel is fishing? Would the vessel be required to stop fishing and leave gear on the grounds while returning to port for repair work? Gear left on the grounds could result in lost gear or significant dead loss and the fishers would experience loss of fishing time while waiting for repairs. Jarring of the VMS unit on small vessels in poor weather may make the unit more likely to break down. In Southeast Alaska, repair locations are limited.

Response: This final rule revises § 679.28(f)(3)(iv) to require the vessel operator to stop fishing if either the operator or NMFS personnel determine that the VMS is not working properly. Further actions required of a vessel with a failed VMS unit depend on the situation, and the operator is encouraged to contact the NOAA Office of Law Enforcement immediately to determine the appropriate action. NMFS does not expect the jarring of VMS units on small vessels to result in a rate of equipment malfunction any higher than the failure rate of any other device with an antenna and wires onboard.

Comment 13: Approximately 80 percent of the vessels holding halibut IFQ complete their quota fishing in one or two trips and many would never go more than 3 nautical miles from shore. A large majority of these vessels are less than 60 feet (18.3 m) length overall (LOA) and most commonly are 40 foot (12.3 m) LOA longline-troll gear vessels. Requiring VMS for these vessels would be an unsupported and unjustified expense. This requirement would likely result in significant legal and conservation problems. We oppose the VMS requirement on small vessels, especially in Southeast Alaska where enforcement opportunities are high.

Response: See response to comment 11. The VMS requirement in the GOA does not include longline-troll gear vessels. Small vessels using mobile bottom contact gear (nonpelagic trawl, dredge, or dinglebar gears) could possibly adversely affect the GOACHPAs. VMS is the most effective method to ensure any fishing by these vessels in EFH and HAPC protection areas is detected.

Comment 14: We oppose further imposition of VMS in fisheries management plans. No one has demonstrated the need for VMS to meet enforcement goals. If VMS is required, NMFS must bear the cost of acquisition, installation, maintenance, and broadcast or user fees.

Response: See responses to Comments 11 and 12.

Comment 15: We oppose the use of VMS as an enforcement tool for EFH and HAPC areas. During the rule development for the GOACHPAs, we were under the impression that longline fisheries would be exempt from VMS requirements. Also, we thought that dinglebar gear should have been exempted because the effects on bottom habitat are no more than minimal, the fishery is small and of a short duration, the FFP can be surrendered so the vessel is exempt from VMS requirements, and these vessels do not fish in GOACHPAs. A year round VMS requirement for dinglebar vessels (usually less than 60 feet (18.3 m) LOA) that participate in a short duration fishery is burdensome. Dinglebar gear vessels should be exempt from VMS requirements because the impact on the GOA EFH of approximate four dinglebar gear vessels is likely less than the longline fleet which is exempt from VMS. VMS is not needed for dinglebar gear vessels because the closure areas are mostly too deep to be fished by this gear type. Fishers have avoided the proposed protection areas in the past and are unlikely to fish these areas in the future. Enforcement tools for the GOACHPAs should be developed by working with the potentially affected vessels owners and operators.

Response: The EFH EIS notes that mobile bottom tending fishing gears have the greatest potential adverse effects on sensitive seafloor habitat features. Dinglebar gear has fewer potential adverse effects than certain other bottom tending mobile gears, such as bottom trawls. As described in the EA/RIR/IRFA (see ADDRESSES), dinglebar gear has a heavy weight deployed near the bottom in fisheries that target groundfish, such as lingcod throughout Southeast Alaska. This gear type has the potential to disturb sensitive bottom habitats. In the final EIS, NMFS proposed requiring the use of VMS on all fishing vessels with bottom contact gear in the GOA to ensure adequate enforcement. Following publication of the final EIS, the Council requested that NMFS exempt fixed gear vessels (including pot, jig, and hook-and-line gear) from the VMS requirement. The Council also requested that NMFS develop a separate comprehensive analysis of alternatives for applying VMS for all fishing vessels in the BSAI and GOA to address enforcement, management, and safety objectives. Because the VMS requirements recommended by the Council would promote very effective enforcement for the gears with the greatest potential to impact sensitive habitat features, NMFS followed the Council's recommendation and retained the VMS requirement only for vessels with mobile gear, including dinglebar gear.

Comment 16: The Bering Sea provides ecosystem and habitat function critical to ecologically sustainable fisheries. The EFH EIS contained enough information to support EFH conservation measures for the Bering Sea. Until NMFS implements regulations to minimize to the extent practical the adverse effect of fishing on EFH in the Bering Sea, NMFS is in violation of the EFH provisions of the Magnuson-Stevens Act. The Council needs to make progress on developing a reasonable range of alternatives, including a conservation management alternative.

Response: The EFH EIS concluded that the effects of fishing on EFH in Alaska (including the Bering Sea) are minimal; and therefore, NMFS is not required by the Magnuson-Stevens Act to adopt new conservation measures to reduce the effects of fishing on EFH. NMFS concluded that the BSAI Groundfish FMP complies with the Magnuson-Stevens Act requirement to minimize to the extent practicable the adverse effects of fishing on EFH. Available information indicates that the eastern Bering Sea does not support the kind of hard bottom habitats that sustain extensive corals and other particularly sensitive benthic invertebrates. However, the Council is reevaluating fishing impacts on the Bering Sea bottom habitat and may consider new habitat conservation measures for this area. NMFS agrees that any National Environmental Policy Act analysis for Bering Sea habitat conservation must include a reasonable range of alternatives.

Comment 17: Scallop vessels fishing in waters outside of Cook Inlet are restricted to no more than two dredges, 15 feet (4.5 m) or less in width. Scallops occur in specific, well-documented locations that are not identified as EFH protection areas. Scallop fishing is limited to these sites. In addition, many areas along the Alaska coast are closed to scallop dredging for various reasons. All scallop vessels are required to carry observers. For these reasons, scallop vessels should be exempt from the EFH protection measures for the GOA.

Response: Scallop dredges are heavy steel framed devices that are dragged along the seabed. They are designed to create a downward force on the dredge and cutting bar. The effects of the gear on bottom habitats depend on gear configuration and the environments in which they are fished. Despite the limited extent of the scallop fishery in Alaska, the Council determined that the measures designed to protect EFH should apply to all bottom tending mobile fishing gear (and in some cases, to all fishing gear that contacts the bottom). As noted in the EFH EIS, the new fishery closures in the GOA are not expected to have substantial effects on the scallop fishery.

Comment 18: In the Aleutian Islands subarea, the protection areas were based on fishing locations provided by vessel owners and operators in the Aleutian Islands groundfish fisheries. The coordinates in the proposed rule for the Semichi block do not accurately reflect fishing patterns. The coordinates should be adjusted a couple miles south and west to accommodate the difference between haulback and tow locations. In addition, the open areas near Buldir Island should be adjusted to reflect historical fishing areas and areas where no fishing has occurred.

Response: The coordinates for the open areas of the AIHCA have been approved and finalized in the amendments to the BSAI groundfish, salmon, crab, and scallop FMPs on May 3, 2006. FMP amendments would be necessary to change the coordinates of any of the open areas in the AIHCA. NMFS encourages the public to work with the Council to identify any needed adjustments to the open areas in the AIHCA. Until the FMPs are amended, NMFS is unable to change the regulatory description of the AIHCA.

Comment 19: We support the concept of establishing open areas in the Aleutian Islands subarea where bottom trawl gear may be used. Because fish patterns in the Aleutian Islands subarea follow patterns of water flows through the passes, trawling occurs in the same areas since the 1940s and 1950s. Establishing open areas is a practicable means of protecting fragile coral habitats in the Aleutian Islands subarea because of this historical concentration of fishing effort in discrete locations. This method is less likely to work for the areas of broad fishing effort like the Bering Sea.

Response: NMFS agrees that establishing open areas in the AIHCA is the best approach for protection of fragile habitat from the effects of fishing. The Council is evaluating potential fishing impacts and protection measures for the Bering Sea bottom habitat. NMFS will work with the Council and industry to ensure any proposed measures are practical and effective.

Changes From and Clarification of the Proposed Rule

Six minor revisions were made to the final rule from the proposed rule to ensure the format of the regulations remained consistent. In § 679.2, the term “federally permitted” was changed to “federally permitted vessel” and the definition was clarified to be consistent with how the term is used in regulatory text implementing this rule. The term “Alaska Seamount Habitat Conservation Areas” also was corrected to “Alaska Seamount Habitat Protection Areas” to ensure consistent identification of the areas in the regulations. In § 679.7, paragraph headings were added to paragraphs (a)(20) through (a)(22) in the same manner as other paragraphs in this section. In addition, the term “fishing” was removed from paragraph (a)(20) to be consistent with the term “federally permitted vessel” as defined by this rule. The title to each table in the final rule was revised to include the text “to Part 679,” in the manner as other table titles in part 679. In Table 26, the name “Fariweather” is corrected to “Fairweather” for area numbers 2 and 3.

In the preamble to the proposed rule, page 14476, column 3, first sentence under the AICHPAs section, the parenthetical clause contains a typographical error. The text “onpelagic” should have been “nonpelagic.” This parenthetical statement was intended to remind the reader of those gear types included in the bottom contact fishing gear definition. This error appeared only once in the entire document, and the definition of bottom contact fishing gear includes only nonpelagic trawl. Because the regulatory text correctly states the gears included in the bottom contact fishing gear definition, the closures for the AICHPAs are specific to bottom contact fishing gear, and the text “onpelagic” appears only once in the document, no additional clarification will be published for this typographical error.

Classification

The Acting Administrator, Alaska Region, NMFS, determined that the FMP amendments implemented by this final rule are necessary for the conservation and management of the groundfish, salmon, scallop, and crab fisheries and that they are consistent with the Magnuson-Stevens Act and other applicable laws.

This final rule has been determined to be not significant for the purposes of Executive Order 12866.

NMFS prepared a final EIS for the EFH portion of this action (see ADDRESSES). A notice of availability was published on May 6, 2005 (70 FR 24037), and the Record of Decision was completed on August 8, 2005. The analysis indicates that fishing has long-term effects on benthic habitat features off Alaska and acknowledges that considerable scientific uncertainty remains regarding the consequences of such habitat changes for the sustained productivity of managed species. Nevertheless, based on the best available scientific information, the EIS concludes that the effects on EFH are minimal because the analysis finds no indication that continued fishing activities at the current rate and intensity would alter the capacity of EFH to support healthy populations of managed species over the long term. Despite this conclusion, the Council elected to take precautionary measures to provide additional habitat protection.

NMFS also prepared an EA for the HAPC portion of this action. The EA evaluated various alternatives (see below) for HAPC in the GOA and BSAI. A finding of no significant impact was issued for this EA.

NMFS prepared a final regulatory flexibility analysis (FRFA) for this action. The FRFA incorporates the IRFAs, a summary of the significant issues raised by any public comment on the IRFAs with NMFS responses to those comments, and a summary of the analyses completed to support the action. The need for and objectives of this action are contained in the preamble to the proposed rule published in the Federal Register on March 22, 2006 (71 FR 14470), and are not repeated here. The legal basis for this action is contained in this preamble. A summary of the FRFA and how it addresses each of the requirements in 5 U.S.C. 604(a)(1)-(5) follows. A copy of this analysis is available from NMFS (see ADDRESSES).

Summary of Significant Issues Raised in Public Comment

NMFS received 11 comment letters containing 7 comments related to economic impacts of the proposed action. No changes were made to the final rule from the proposed rule based on the comments. No comments directly addressed the IRFAs, however, several comments, (comments 11 through 15) addressed economic impacts from the VMS requirement for various types of small vessels. Comment 10 questioned the need for fixed gear closures in the eastern GOA, and Comment 17 questioned the need for scallop vessels to be required to comply with EFH and HAPC requirements. Comments 10 through 15, and 17 and NMFS’ responses are in the preamble under Comments and Responses and are not repeated here.

Description and Estimate of the Number of Small Entities to Which the Rule Will Apply

The EFH protection measures for the Aleutian Islands subarea and the GOA would have an adverse impact on small entities using bottom trawl, and other bottom contact gear, by restricting the areas within which they may operate. An estimated 13 directly regulated small entities might be affected in the Aleutian Islands subarea. About 2.2 percent of the revenues from all affected entities (large and small) in the Aleutian Islands subarea could be placed at risk. Fifty-eight small entities in the GOA might be affected. Affected entities (large and small) in the GOA could see 4.2 percent of their revenues placed at risk. Entities in the Aleutian Islands subarea and the GOA do have opportunities to make up some of these revenues by substituting fishing in other areas.

Prohibiting the use of all bottom contact gear in the AICHPA could directly regulate as many as 124 small entities. Revenues potentially at risk were less than 0.5 percent of Aleutian Islands subarea groundfish revenue, about 4.4 percent of Aleutian Islands subarea halibut revenue, and less than 0.1 percent of crab revenue. Much of the revenue placed at risk could potentially be recovered by changes in fishing location.

Designation of the BRHCZ as HAPC, and prohibition of mobile bottom contact gear, could potentially affect 23 small head-and-gut catcher/processors. About 0.02 percent of their groundfish gross revenues might be placed at risk. A no action alternative was considered for protection of Bowers Ridge. However, the action alternative provided more potential protection at no significant additional cost to fishing operations.

This rule would prohibit CDQ vessels from directly fishing for pollock in such a way that the vessel would have more than 20 crabs of any species, with a carapace width greater than 1.5 inches, on board at any time (§ 697.7(a)(14)(i)). CDQ vessels directly fishing for pollock also would be prohibited from using nonpelagic trawl gear by regulations in § 697.24. This action could potentially affect the six CDQ groups and the pollock vessels that fish for them. Because CDQ vessels currently use pelagic trawl gear for directed fishing for pollock, this action is not likely to affect the revenue from this activity. While a no action alternative was considered, the action alternative provided more potential protection and no significant additional cost to fishing operations.

A requirement that federally permitted vessels operating in the Aleutian Islands subarea carry and operate VMS could potentially directly regulate 124 vessels with average gross revenues of $950,000. Average installation costs are $1,550 for vessels that do not already have VMS. Annual transmission costs are $451 for vessels acquiring VMS, and $994 for vessels that already have it. Average repair costs were estimated to be $28. An alternative to exempt vessels under 32 feet LOA was considered. This would have exempted only three vessels. NMFS determined that the potential for small vessels to employ bottom contact gear in protected EFH and HAPC waters in the Aleutian Islands subarea makes it necessary for all vessels to carry VMS to efficiently enforce closure areas.

The Council recommended designating the ASHPAs as HAPC and prohibiting federally managed bottom contact gear in these areas. This action could directly regulate as many as seven small entities. The impact is believed to be very small; about 0.01 percent of their total groundfish revenues might be placed at risk. A no action alternative, and an alternative only designating five seamounts were both considered. The latter alternative was not taken, since the 15 seamount alternative provided greater protection, and appeared to impose a very small additional burden on small entities.

The Council recommended five GOACHPAs off of Southeast Alaska, and prohibited federally permitted vessels from fishing in them with bottom contact gear. Almost 300 small entities may have operated in proximity to these areas from 1995-2003. Revenues at risk appear to be about 0.03 percent of total groundfish revenue for the affected vessels.

The Council recommended federally permitted vessels operating with mobile bottom contact gear on board in the GOA to carry transmitting VMS units. This action was expected to directly regulate 73 small entities. Average gross revenues for these vessels were $453,000. Although installation costs are estimated to be $1,550, many of these vessels already have VMS. Therefore, average installation costs were estimated to be about $400. Average transmission costs were $500, and average annual repair costs were $16.

Alternatives Considered

The Council considered a suite of alternatives for the eastern Bering Sea subarea (EBS) in the draft EFH EIS/RIR/IRFA. Based on that preliminary analysis, the Council decided not to adopt new management measures for EFH protection in the EBS at this time, but to initiate an expanded analysis to further evaluate the potential impacts of fishing activities on EFH and any potential mitigation measures for the EBS. The Council determined that existing information was insufficient to justify immediate action to add new habitat protection measures in the EBS.

The following describes the alternatives considered for the EFH protection measures for the Aleutian Islands subarea and GOA.

Alternative 1 was the No Action (status quo) alternative. No additional measures would have been taken to minimize the effects of fishing on EFH. This alternative was not chosen, since it would fail to accomplish the Council's objectives.

Alternative 2 would have amended the GOA Groundfish FMP to prohibit the use of bottom trawls for targeting slope rockfish in 11 designated areas of the GOA upper slope (200 to 1,000 m), but allow vessels endorsed for trawl gear to fish for rockfish in these areas with fixed gear or pelagic trawl gear. This alternative involves more extensive GOA closures for this fishery than the preferred alternative, Alternative 5C. Therefore, on this issue, a less burdensome alternative was chosen.

Alternative 3 would have amended the GOA Groundfish FMP to prohibit the use of bottom trawl gear for targeting GOA slope rockfish species anywhere on the upper slope area (200 to 1,000 m), but allow vessels endorsed for trawl gear to fish for slope rockfish with fixed gear or pelagic trawl gear. This alternative involves more extensive closures for this fishery than the preferred alternative, Alternative 5C. Therefore, on this issue, a less burdensome alternative was chosen.

Alternative 4 would have amended the GOA and the BSAI Groundfish FMPs to prohibit the use of bottom trawl gear in designated areas of the EBS, AI, and GOA. In the EBS only, bottom trawl gear used in the remaining open areas would be required to have disks/bobbins on trawl sweeps and footropes to reduce the impact on the bottom. The EBS was to be subject to 10-year rotational closures. Alternative 4 would prohibit nonpelagic trawl (NPT) gear use in designated areas of the Aleutian Islands subarea (near Semisopochnoi Island, Stalemate Bank, Bowers Ridge, and Seguam Foraging Area). In the GOA, Alternative 4 would have prohibited fishing for rockfish with bottom trawls in designated sites on the upper to intermediate slope. An important reason for not choosing Alternative 4 was that it would impose restrictions in the EBS. The Council chose not to implement EFH fishing restrictions in the EBS. The Council determined that current EFH knowledge and management experience in the EBS were insufficient to justify immediate action.

Alternative 5A would have amended the GOA and BSAI Groundfish FMPs to prohibit the use of bottom trawl gear in expanded designated areas of the EBS, AI, and GOA. In the EBS only, bottom trawl gear used in the remaining open areas would be required to have disks/bobbins on trawl sweeps and footropes. The EBS was to be subject to 5-year rotational closures. In the GOA, Alternative 4 would have prohibited fishing for all groundfish with bottom trawls in designated sites on the upper to intermediate slope, and prohibited targeting GOA slope rockfish with bottom trawls on the upper to intermediate slope. Alternative 5A would have prohibited NPT gear use in five designated areas of the Aleutian Islands subarea (Semisopochnoi Island, Seguam Foraging Area, Yunaska Island, Stalemate Bank, and Bowers Ridge). An important reason for not choosing Alternative 5A was that it would impose restrictions in the EBS. The Council chose not to implement EFH fishing restrictions in the EBS. The Council determined that current EFH knowledge and management experience in the EBS were insufficient to justify immediate action.

Alternative 5B would have amended the GOA and BSAI Groundfish FMPs to prohibit the use of bottom trawl gear in designated areas of the BSAI and GOA. In the EBS, bottom trawling would be closed in areas subject to a 5-year rotating closures. Bottom trawls would be required to have sweeps and footropes equipped with disks/bobbins to reduce seafloor contact. In the Aleutian Islands subarea, various combinations of areas would have been closed to bottom trawling gear under each of three different Alternative 5B options (Options 1, 2, and 3). In addition, Options 1 and 2 would have required reductions in total allowable catch amounts (TACs) for Pacific cod, Atka mackerel, and rockfish equivalent to the expected catch of each species that would have come from the closed areas. Options 1 and 2 also would have closed specific fisheries and areas once coral/bryozoan and sponge bycatch limits were reached. In the GOA, Alternative 5B would have prohibited fishing for all groundfish with bottom trawls in designated sites on the upper to intermediate slope, and prohibited targeting GOA slope rockfish with bottom trawls on the upper to intermediate slope at depths between 200 m and 1,000 m. An important reason for not choosing Alternative 5B was that it would have imposed restrictions in the EBS. The Council chose not to implement EFH fishing restrictions in the EBS. The Council determined that current EFH knowledge and management experience in the EBS were insufficient to justify immediate action.

The preferred alternative, Alternative 5C, will amend the FMPs to prohibit the use of bottom trawl gear in designated areas of the Aleutian Islands subarea and GOA to reduce the effects of fishing on corals, sponges, and rocky (“hard bottom”) habitats. In the Aleutian Islands subarea, a combination of measures will reduce the effects of all bottom contact gear on corals and sponges. The management measures established by this alternative will be in addition to existing habitat protection measures (e.g., area closures, gear restrictions, and limitations on fishing effort). Additionally, all bottom contact fishing will be prohibited in six coral garden sites, located off Semisopochnoi Island, Bobrof Island, Cape Moffet, Great Siskin Island, Ulak Island, and Adak Canyon, in the Aleutian Islands subarea, the AICHPA. To ensure adequate enforcement, VMS will be required on all commercial fishing vessels in the Aleutian Islands subarea, as well as on all commercial fishing vessels operating in the GOA with bottom contact gear on board. Alternative 5C will not include new management measures for the EBS because available information indicates that the EBS does not support the kind of hard bottom habitats that sustain extensive corals and other particularly sensitive benthic invertebrates. However, under this alternative, the Council will initiate a subsequent analysis, specifically designed to consider potential future habitat conservation measures for the EBS (including the management options identified in the EFH EIS and others). The VMS requirement for the Aleutian Islands subarea was adopted under Alternative 5C, but additional alternatives for the GOA VMS requirement were considered and are described below.

Alternative 6 would have amended the GOA and BSAI Groundfish FMPs, the Pacific Salmon FMP, the Alaska Scallop FMP, the BSAI Crab FMP, and Pacific Halibut Act regulations to prohibit the use of all bottom tending gear (dredges, bottom trawls, pelagic trawls that contact the bottom, longlines, dinglebars, and pots) within approximately 20 percent of the fishable waters (i.e., 20 percent of the waters shallower than 1,000 m) in the BSAI and GOA. This alternative would have implemented EFH restrictions in the EBS. The Council chose not to implement EFH fishing restrictions in the EBS. The Council determined that current EFH knowledge and management experience in the EBS were insufficient to justify immediate action. This alternative would have imposed relatively heavy burdens on entities operating in the BSAI and the GOA.

Alternatives considered for the AICHPAs are as follows:

Alternative 1 was the no action alternative. This alternative would not have met the Council's HAPC protection objectives. Therefore, Alternative 1 was not chosen.

Both Alternatives 2 and 3 were chosen as part of the preferred alternative. Alternative 2 is the AICHPA and would adopt six coral garden sites within the Aleutian Islands subarea as HAPC and implement fishing restrictions in these areas. This alternative was adopted as part of Alternative 5C explained above. Alternative 3 would adopt an area including Bowers Ridge and Ulm Plateau as HAPC and establish the BRHCZ where fishing with mobile bottom contact gear is prohibited.

Alternative 4 would have designated four sites within the Aleutian Islands subarea as HAPC (South Amlia/Atka, Kanaga Volcano, Kanaga Island, and Tanaga Islands), with two options for gear restrictions. Alternative 4 was not adopted because of the limited information on the extent to which significant corals would be protected for the proposed closures that was available to the Council.

Alternative 5 would have adopted all the areas designated under Alternatives 2, 3, and 4. Alternative 5 included Alternatives 2 and 3, which were chosen, but also Alternative 4, which was not chosen. Therefore, Alternative 5 was not chosen.

Alternatives considered for the GOACHPA are as follows:

Alternative 1 was the no action alternative. This alternative did not advance the Council's objectives. Therefore, Alternative 1 was not chosen.

Alternative 2 would have designated three sites along the continental slope at Sanak, Albatross, and Middleton Islands as HAPC and close sites to either mobile bottom-contact gear or bottom trawling for five years. Alternative 2 was more burdensome than the preferred Alternative 3. Alternative 2 revenues at risk for trawler catcher vessels had risen to 2 to 3 percent of their gross revenues in some historical years.

The preferred alternative, Alternative 3, designates four areas near Cape Omaney, Fairweather Grounds NW., and Fairweather Grounds SW., as HAPC. It would establish the GOACHPAs and prohibit bottom-contact gear within these five smaller areas inside these HAPC. As noted above, this alternative had very small impacts on the fleet.

Alternative 4 would adopt all HAPC specified in Alternatives 2 and 3 with the same boundaries and management measures. Alternative 4 was ruled out when the Council chose not to adopt Alternative 2.

Alternatives considered for VMS requirements for the GOA included longline vessels as well as mobile bottom contact gear vessels. The Council considered alternatives that would have exempted vessels under 25 feet LOA, under 30 feet LOA, under 32 feet LOA, using dredge gear, and using dinglebar gear. The Council chose to exclude longline vessels to reduce the burden on small entities. Because mobile bottom contact gear was believed to create a greater potential for damage to EFH and HAPC, these vessels required more careful monitoring and enforcement. Therefore, the alternative chosen by the Council requires VMS for these vessels.

Steps Taken To Minimize Economic Impacts on Small Entities

The Council recommended not requiring VMS for longline vessels operating in the GOA, thereby eliminating any potential VMS costs to these vessels from this action. The selection of sites for closures was developed through industry participation and based on the best information available to ensure closures did not impose any more economic burden than was necessary to meet the Council's objectives to protect EFH and HAPC. A number of alternatives were rejected based on lack of information to support the need for protection measures or due to economic impact beyond what was needed to meet the Council's objectives.

Description of Reporting, Recordkeeping and Other Compliance Requirements

The IRFAs did not reveal any Federal rules that duplicate, overlap, or conflict with this action. The VMS portion of this action would add new reporting requirements for vessels that carry an FFP or FCVP and fish in any fishery in the Aleutian Islands subarea, or those that carry an FFP or FCVP and have mobile bottom contact fishing gear onboard while operating in the GOA. These fishing operations would be required to carry VMS units and to report their locations every half hour while they are participating in fisheries subject to the requirement. Moreover, they would be required to notify NOAA Office of Law Enforcement (OLE) that their VMS units are active, once installed, and before vessel operation. They also would be required to notify NOAA OLE in the event of a breakdown in the unit.

Small Entity Compliance Guide

Section 212 of the Small Business Regulatory Enforcement Fairness Act of 1996 states that, for each rule, or group of related rules for which an agency is required to prepare a FRFA, the agency shall publish one or more guides to assist small entities in complying with the rule and shall designate such publications as “small entity compliance guides.” The agency shall explain the actions a small entity is required to take to comply with a rule or group of rules. As part of this rulemaking process, NMFS Alaska Region has developed a Web site that provides easy access to details of this final rule, including links to the final rule, maps of closure areas, and frequently asked questions regarding EFH. The relevant information available on the Web site is the Small Entity Compliance Guide. The Web site address is http://www.fakr.noaa.gov/habitat/efh.htm. Copies of this final rule are available upon request from the NMFS, Alaska Regional Office (see ADDRESSES).

This final rule contains a collection-of-information requirement subject to the Paperwork Reduction Act (PRA) and that has been approved by the Office of Management and Budget (OMB) under control number OMB 0648-0445. Public reporting burden per response are estimated to average: 6 seconds for each VMS transmission, 12 minutes for VMS check-in form, 6 hours for VMS installation, and 4 hours for VMS annual maintenance. The response times include the time for reviewing instructions, searching existing data sources, gathering and maintaining the data needed, and completing and reviewing the collection-of-information. Send comments regarding these burden estimates or any other aspect of this data collection, including suggestions for reducing the burden, to NMFS (see ADDRESSES) and by e-mail to David_Rostker@omb.eop.gov, or fax to 202-395-7285.

Notwithstanding any other provision of the law, no person is required to respond to, and no person shall be subject to penalty for failure to comply with, a collection-of-information subject to the requirements of the PRA, unless that collection-of-information displays a currently valid OMB control number.

List of Subjects in 50 CFR Part 679

Alaska, Fisheries, Recordkeeping and reporting requirements.

Dated: June 22, 2006.
James W. Balsiger,
Acting Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq.; 1540(f); 1801 et seq.; 1851 note; 3631 et seq.

2. In § 679.2, add in alphabetical order the new definitions for “Alaska Seamount Habitat Protection Areas”, “Aleutian Islands Coral Habitat Protection Areas”, “Aleutian Islands Habitat Conservation Area”, “Bowers Ridge Habitat Conservation Zone”, “Federally permitted vessel”, “Gulf of Alaska Coral Habitat Protection Areas”, “Gulf of Alaska Slope Habitat Conservation Areas”, and “Operate a vessel”; and under the term “Authorized fishing gear”, redesignate paragraphs (9) through (17) as paragraphs (12) through (20), redesignate paragraphs (2) through (8) as paragraphs (4) through (10), redesignate paragraph (1) as paragraph (2), and add paragraphs (1), (3), and (11) to read as follows:

§ 679.2 Definitions.

* * * * *

Alaska Seamount Habitat Protection Areas means management areas established for the protection of seamount habitat areas of particular concern in the BSAI and GOA. See Table 22 to this part.

* * * * *

Aleutian Islands Coral Habitat Protection Areas means management areas established for the protection of certain coral garden areas in the Aleutian Islands subarea. See Table 23 to this part.

Aleutian Islands Habitat Conservation Area means a management area established for the protection of fish habitat in the Aleutian Islands subarea. See Table 24 to this part.

* * * * *

Authorized fishing gear * * *.

(1) Bottom contact gear means nonpelagic trawl, dredge, dinglebar, pot, or hook-and-line gear.

* * * * *

(3) Dredge means a dredge-like device designed specifically for and capable of taking scallops by being towed along the ocean floor.

* * * * *

(11) Mobile bottom contact gear means nonpelagic trawl, dredge, or dinglebar gear.

* * * * *

Bowers Ridge Habitat Conservation Zone means a management area established for the protection of the Bowers Ridge and Ulm Plateau habitat areas of particular concern in the BSAI. See Table 25 to this part.

* * * * *

Federally permitted vessel means a vessel that is named on either a Federal fisheries permit issued pursuant to § 679.4(b) or on a Federal crab vessel permit issued pursuant to § 680.4(k) of this chapter. Federally permitted vessels must conform to regulatory requirements for purposes of fishing restrictions in habitat conservation areas, habitat conservation zones, and habitat protection areas; for purposes of anchoring prohibitions in habitat protection areas; and for purposes of VMS requirements.

* * * * *

Gulf of Alaska Coral Habitat Protection Areas means management areas established for the protection of coral habitat areas of particular concern in the Gulf of Alaska. See Table 26 to this part.

Gulf of Alaska Slope Habitat Conservation Areas means management areas established for the protection of essential fish habitat on the Gulf of Alaska slope. See Table 27 to this part.

* * * * *

Operate a vessel means for purposes of VMS that the fishing vessel is:

(1) Offloading or processing fish;

(2) In transit to, from, or between the fishing areas; or

(3) Fishing or conducting operations in support of fishing.

* * * * *

3. In § 679.4, paragraph (k)(3)(iv)(A) is revised to read as follows:

§ 679.4 Permits.

* * * * *

(k) * * *

(3) * * *

(iv) * * *

(A) General. A vessel may only use gear consistent with the gear designation on the LLP license authorizing the use of that vessel to fish for license limitation groundfish or crab species, except that a vessel fishing under authority of an LLP license endorsed only for trawl gear may fish for slope rockfish with non-trawl gear within the Gulf of Alaska Slope Habitat Conservation Areas, as described in Table 27 to this part.

* * * * *

4. In § 679.7, paragraph (a)(14)(i) is revised, and paragraphs (a)(20) through (a)(22) are added to read as follows:

§ 679.7 Prohibitions.

* * * * *

(a) * * *

(14) * * *

(i) BSAI. Use a vessel to participate in a directed fishery for pollock using trawl gear and have on board the vessel, at any particular time, 20 or more crabs of any species that have a carapace width of more than 1.5 inches (38 mm) at the widest dimension.

* * * * *

(20) Anchoring in a habitat protection area. Anchor any federally permitted vessel in any habitat protection area described in Tables 22, 23, and 26 of this part.

(21) VMS on vessels in the Aleutian Islands subarea. Operate a federally permitted vessel in the Aleutian Islands subarea without an operable VMS and without complying with the requirements at § 679.28.

(22) VMS for mobile bottom contact gear vessels in the GOA. Operate a federally permitted vessel in the GOA with mobile bottom contact gear on board without an operable VMS and without complying with the requirements at § 679.28.

* * * * *

5. In § 679.22, paragraph (a)(12) is revised and paragraphs (a)(13) through (a)(15) and (b)(8) through (b)(10) are added to read as follows:

§ 679.22 Closures.

(a) * * *

(12) Alaska Seamount Habitat Protection Areas. No federally permitted vessel may fish with bottom contact gear in the Alaska Seamount Habitat Protection Areas, as described in Table 22 to this part.

(13) Aleutian Islands Coral Habitat Protection Areas. No federally permitted vessel may fish with bottom contact gear in the Aleutian Islands Coral Habitat Protection Areas, as described in Table 23 to this part.

(14) Aleutian Islands Habitat Conservation Area. Except within those areas identified as opened to nonpelagic trawl gear fishing in Table 24 to this part, no federally permitted vessel may fish with nonpelagic trawl gear in the Aleutian Islands Habitat Conservation Area, as described in Table 24 to this part.

(15) Bowers Ridge Habitat Conservation Zone. No federally permitted vessel may fish with mobile bottom contact gear in the Bowers Ridge Habitat Conservation Zone, as described in Table 25 to this part.

(b) * * *

(8) Alaska Seamount Habitat Protection Areas. No federally permitted vessel may fish with bottom contact gear in the Alaska Seamount Habitat Protection Areas, as described in Table 22 to this part.

(9) Gulf of Alaska Coral Habitat Protection Areas. No federally permitted vessel may fish with bottom contact gear in the Gulf of Alaska Coral Habitat Protection Areas, as described in Table 26 to this part.

(10) Gulf of Alaska Slope Habitat Conservation Areas. No federally permitted vessel may fish with nonpelagic trawl gear in the Gulf of Alaska Slope Habitat Conservation Areas, as described in Table 27 to this part.

* * * * *

6. In § 679.24, paragraph (b)(4) is revised to read as follows:

§ 679.24 Gear limitations.

* * * * *

(b) * * *

(4) BSAI pollock nonpelagic trawl prohibition. No person may use nonpelagic trawl gear to engage in directed fishing for pollock in the BSAI.

* * * * *

7. In § 679.28, paragraphs (f)(3)(iv) and (f)(6) are revised to read as follows:

§ 679.28 Equipment and operational requirements.

* * * * *

(f) * * *

(3) * * *

(iv) Stop fishing immediately if:

(A) Informed by NMFS staff or an authorized officer that NMFS is not receiving position reports from the VMS transmitter, or

(B) The vessel operator determines that the VMS is not transmitting properly.

* * * * *

(6) When must the VMS transmitter be transmitting? Your vessel's transmitter must be transmitting if:

(i) You operate a vessel in any reporting area (see definitions at § 679.2) off Alaska while in any fishery requiring VMS, for which the vessel has a species and gear endorsement on its Federal fisheries permit under § 679.4(b)(5)(vi), is open;

(ii) You operate a federally permitted vessel in the Aleutian Islands subarea; or

(iii) You operate a federally permitted vessel in the GOA and have mobile bottom contact gear on board.

* * * * *

8. In 50 CFR part 679, tables 22 through 27 are added to read as follows:

Table 22 to Part 679.—Alaska Seamount Habitat Protection Areas
Area No. | Name | Latitude | Longitude
1 | Dickins Seamount | 54 39.00 N | 136 48.00 W
|  | 54 39.00 N | 137 9.00 W
|  | 54 27.00 N | 137 9.00 W
|  | 54 27.00 N | 136 48.00 W
2 | Denson Seamount | 54 13.20 N | 137 6.00 W
|  | 54 13.20 N | 137 36.00 W
|  | 53 57.00 N | 137 36.00 W
|  | 53 57.00 N | 137 6.00 W
3 | Brown Seamount | 55 0.00 N | 138 24.00 W
|  | 55 0.00 N | 138 48.00 W
|  | 54 48.00 N | 138 48.00 W
|  | 54 48.00 N | 138 24.00 W
4 | Welker Seamount | 55 13.80 N | 140 9.60 W
|  | 55 13.80 N | 140 33.00 W
|  | 55 1.80 N | 140 33.00 W
|  | 55 1.80 N | 140 9.60 W
5 | Dall Seamount | 58 18.00 N | 144 54.00 W
|  | 58 18.00 N | 145 48.00 W
|  | 57 45.00 N | 145 48.00 W
|  | 57 45.00 N | 144 54.00 W
6 | Quinn Seamount | 56 27.00 N | 145 0.00 W
|  | 56 27.00 N | 145 24.00 W
|  | 56 12.00 N | 145 24.00 W
|  | 56 12.00 N | 145 0.00 W
7 | Giacomini Seamount | 56 37.20 N | 146 7.20 W
|  | 56 37.20 N | 146 31.80 W
|  | 56 25.20 N | 146 31.80 W
|  | 56 25.20 N | 146 7.20 W
8 | Kodiak Seamount | 57 0.00 N | 149 6.00 W
|  | 57 0.00 N | 149 30.00 W
|  | 56 48.00 N | 149 30.00 W
|  | 56 48.00 N | 149 6.00 W
9 | Odessey Seamount | 54 42.00 N | 149 30.00 W
|  | 54 42.00 N | 150 0.00 W
|  | 54 30.00 N | 150 0.00 W
|  | 54 30.00 N | 149 30.00 W
10 | Patton Seamount | 54 43.20 N | 150 18.00 W
|  | 54 43.20 N | 150 36.00 W
|  | 54 34.20 N | 150 36.00 W
|  | 54 34.20 N | 150 18.00 W
11 | Chirikof & Marchand Seamounts | 55 6.00 N | 151 0.00 W
|  | 55 6.00 N | 153 42.00 W
|  | 54 42.00 N | 153 42.00 W
|  | 54 42.00 N | 151 0.00 W
12 | Sirius Seamount | 52 6.00 N | 160 36.00 W
|  | 52 6.00 N | 161 6.00 W
|  | 51 57.00 N | 161 6.00 W
|  | 51 57.00 N | 160 36.00 W
13 | Derickson Seamount | 53 0.00 N | 161 0.00 W
|  | 53 0.00 N | 161 30.00 W
|  | 52 48.00 N | 161 30.00 W
|  | 52 48.00 N | 161 0.00 W
14 | Unimak Seamount | 53 48.00 N | 162 18.00 W
|  | 53 48.00 N | 162 42.00 W
|  | 53 39.00 N | 162 42.00 W
|  | 53 39.00 N | 162 18.00 W
15 | Bowers Seamount | 54 9.00 N | 174 52.20 E
|  | 54 9.00 N | 174 42.00 E
|  | 54 4.20 N | 174 42.00 E
|  | 54 4.20 N | 174 52.20 E
Note: Each area is delineated by connecting the coordinates in the order listed by straight lines. The last set of coordinates for each area is connected to the first set of coordinates for the area by a straight line. Projected coordinate system is North American Datum 1983, Albers.

Table 23 to Part 679.—Aleutian Islands Coral Habitat Protection Areas
Area No. | Name | Latitude | Longitude
1 | Great Sitkin I | 52 9.56 N | 176 6.14 W
|  | 52 9.56 N | 176 12.44 W
|  | 52 4.69 N | 176 12.44 W
|  | 52 6.59 N | 176 6.12 W
2 | Cape Moffett I | 52 0.11 N | 176 46.65 W
|  | 52 0.10 N | 176 53.00 W
|  | 51 55.69 N | 176 53.00 W
|  | 51 55.69 N | 176 48.59 W
|  | 51 57.96 N | 176 46.52 W
3 | Adak Canyon | 51 39.00 N | 177 0.00 W
|  | 51 39.00 N | 177 3.00 W
|  | 51 30.00 N | 177 3.00 W
|  | 51 30.00 N | 177 0.00 W
4 | Bobrof I | 51 57.35 N | 177 19.94 W
|  | 51 57.36 N | 177 29.11 W
|  | 51 51.65 N | 177 29.11 W
|  | 51 51.71 N | 177 19.93 W
5 | Ulak I | 51 25.85 N | 178 59.00 W
|  | 51 25.69 N | 179 6.00 W
|  | 51 22.28 N | 179 6.00 W
|  | 51 22.28 N | 178 58.95 W
6 | Semisopochnoi I | 51 53.10 N | 179 53.11 E
|  | 51 53.10 N | 179 46.55 E
|  | 51 48.84 N | 179 46.55 E
|  | 51 48.89 N | 179 53.11 E
Note: Each area is delineated by connecting the coordinates in the order listed by straight lines. The last set of coordinates for each area is connected to the first set of coordinates for the area by a straight line. Projected coordinate system is North American Datum 1983, Albers.

Table 24 to Part 679.—Except as Noted, Locations in the Aleutian Islands Habitat Conservation Area Open to Nonpelagic Trawl Fishing
Area No. | Name | Latitude | Longitude | Footnote
1 | Islands of 4 Mountains North | 52 54.00 N | 170 18.00 W
|  | 52 54.00 N | 170 24.00 W
|  | 52 42.00 N | 170 24.00 W
|  | 52 42.00 N | 170 18.00 W
2 | Islands of 4 Mountains West | 53 12.00 N | 170 0.00 W
|  | 53 12.00 N | 170 12.00 W
|  | 53 6.00 N | 170 12.00 W
|  | 53 6.00 N | 170 30.00 W
|  | 53 0.00 N | 170 30.00 W
|  | 53 0.00 N | 170 48.00 W
|  | 52 54.00 N | 170 48.00 W
|  | 52 54.00 N | 170 54.00 W
|  | 52 48.00 N | 170 54.00 W
|  | 52 48.00 N | 170 30.00 W
|  | 52 54.00 N | 170 30.00 W
|  | 52 54.00 N | 170 24.00 W
|  | 53 0.00 N | 170 24.00 W
|  | 53 0.00 N | 170 0.00 W
3 | Yunaska I. South | 52 24.00 N | 170 30.00 W
|  | 52 24.00 N | 170 54.00 W
|  | 52 12.00 N | 170 54.00 W
|  | 52 12.00 N | 170 30.00 W
4 | Amukta I. North | 52 54.00 N | 171 6.00 W
|  | 52 54.00 N | 171 30.00 W
|  | 52 48.00 N | 171 30.00 W
|  | 52 48.00 N | 171 36.00 W
|  | 52 42.00 N | 171 36.00 W
|  | 52 42.00 N | 171 12.00 W
|  | 52 48.00 N | 171 12.00 W
|  | 52 48.00 N | 171 6.00 W
5 | Amukta Pass North | 52 42.00 N | 171 42.00 W
|  | 52 42.00 N | 172 6.00 W
|  | 52 36.00 N | 172 6.00 W
|  | 52 36.00 N | 171 42.00 W
6 | Amlia North/Seguam | 52 42.00 N | 172 12.00 W
|  | 52 42.00 N | 172 30.00 W
|  | 52 30.00 N | 172 30.00 W
|  | 52 30.00 N | 172 36.00 W
|  | 52 36.00 N | 172 36.00 W
|  | 52 36.00 N | 172 42.00 W
|  | 52 39.00 N | 172 42.00 W
|  | 52 39.00 N | 173 24.00 W
|  | 52 36.00 N | 173 30.00 W
|  | 52 36.00 N | 173 36.00 W
|  | 52 30.00 N | 173 36.00 W
|  | 52 30.00 N | 174 0.00 W
|  | 52 27.00 N | 174 0.00 W
|  | 52 27.00 N | 174 6.00 W
|  | 52 23.93 N | 174 6.00 W | 1
|  | 52 13.71 N | 174 6.00 W
|  | 52 12.00 N | 174 6.00 W
|  | 52 12.00 N | 174 0.00 W
|  | 52 9.00 N | 174 0.00 W
|  | 52 9.00 N | 173 0.00 W
|  | 52 6.00 N | 173 0.00 W
|  | 52 6.00 N | 172 45.00 W
|  | 51 54.00 N | 172 45.00 W
|  | 51 54.00 N | 171 48.00 W
|  | 51 48.00 N | 171 48.00 W
|  | 51 48.00 N | 171 42.00 W
|  | 51 54.00 N | 171 42.00 W
|  | 52 12.00 N | 171 42.00 W
|  | 52 12.00 N | 171 48.00 W
|  | 52 18.00 N | 171 48.00 W
|  | 52 18.00 N | 171 42.00 W
|  | 52 30.00 N | 171 42.00 W
|  | 52 30.00 N | 171 54.00 W
|  | 52 24.00 N | 171 54.00 W
|  | 52 24.00 N | 172 0.00 W
|  | 52 12.00 N | 172 0.00 W
|  | 52 12.00 N | 172 42.00 W
|  | 52 18.00 N | 172 42.00 W
|  | 52 18.00 N | 172 37.13 W | 2
|  | 52 18.64 N | 172 36.00 W
|  | 52 24.00 N | 172 36.00 W
|  | 52 24.00 N | 172 12.00 W | 6
| Amlia North/Seguam donut | 52 33.00 N | 172 42.00 W | 5
|  | 52 33.00 N | 173 6.00 W | 5
|  | 52 30.00 N | 173 6.00 W | 5
|  | 52 30.00 N | 173 18.00W | 5
|  | 52 24.00 N | 173 18.00 W | 5
|  | 52 24.00 N | 172 48.00 W | 5
|  | 52 30.00 N | 172 48.00 W | 5
|  | 52 0.00 N | 172 42.00 W | 5, 7
7 | Atka/Amlia South | 52 0.00 N | 173 18.00 W
|  | 52 0.00 N | 173 54.00 W
|  | 52 3.08 N | 173 54.00 W | 2
|  | 52 6.00 N | 173 58.00 W
|  | 52 6.00 N | 174 6.00 W
|  | 52 0.00 N | 174 18.00 W
|  | 52 0.00 N | 174 12.00 W
|  | 51 54.00 N | 174 12.00 W
|  | 51 54.00 N | 174 18.00 W
|  | 52 6.00 N | 174 18.00 W
|  | 52 6.00 N | 174 21.86 W | 1
|  | 52 4.39 N | 174 30.00 W
|  | 52 3.09 N | 174 30.00 W | 1
|  | 52 2.58 N | 174 30.00 W
|  | 52 0.00 N | 174 30.00 W
|  | 52 0.00 N | 174 36.00 W
|  | 51 54.00 N | 174 36.00 W
|  | 51 54.00 N | 174 54.00 W
|  | 51 48.00 N | 174 54.00 W
|  | 51 48.00 N | 173 24.00 W
|  | 51 54.00 N | 173 24.00 W
|  | 51 54.00 N | 173 18.00 W
8 | Atka I. North | 52 30.00 N | 174 24.00 W
|  | 52 30.00 N | 174 30.00 W
|  | 52 24.00 N | 174 30.00 W
|  | 52 24.00 N | 174 48.00 W
|  | 52 18.00 N | 174 48.00 W
|  | 52 18.00 N | 174 54.00 W
|  | 52 12.00 N | 174 54.00 W
|  | 52 12.00 N | 175 18.00 W
|  | 52 1.14 N | 175 18.00 W | 1
|  | 52 2.19 N | 175 12.00 W
|  | 52 6.00 N | 175 12.00 W
|  | 52 6.00 N | 174 55.51 W | 1
|  | 52 6.00 N | 174 54.04 W
|  | 52 6.00 N | 174 48.00 W
|  | 52 12.00 N | 174 48.00 W
|  | 52 12.00 N | 174 26.85 W | 1
|  | 52 12.94 N | 174 18.00 W
|  | 52 16.80 N | 174 18.00 W | 1
|  | 52 17.06 N | 174 18.00 W
|  | 52 17.64 N | 174 18.00 W | 1
|  | 52 18.00 N | 174 19.12 W
|  | 52 18.00 N | 174 20.04 W | 1
|  | 52 19.37 N | 174 24.00 W
9 | Atka I. South | 52 0.68 N | 175 12.00 W | 2
|  | 52 0.76 N | 175 18.00 W
|  | 52 0.00 N | 175 18.00 W
|  | 52 0.00 N | 175 12.00 W
10 | Adak I. East | 52 12.00 N | 176 36.00 W
|  | 52 12.00 N | 176 36.00 W
|  | 52 12.00 N | 176 0.00 W
|  | 52 2.59 N | 176 0.00 W | 1
|  | 52 1.79 N | 176 0.00 W
|  | 52 0.00 N | 176 0.00 W
|  | 52 0.00 N | 175 48.00 W
|  | 51 57.74 N | 175 48.00 W | 1
|  | 51 55.48 N | 175 48.00 W
|  | 51 54.00 N | 175 48.00 W
|  | 51 54.00 N | 176 0.00 W | 1
|  | 51 53.09 N | 176 6.00 W
|  | 51 51.40 N | 176 6.00 W | 1
|  | 51 49.67 N | 176 6.00 W
|  | 51 48.73 N | 176 6.00 W | 1
|  | 51 48.00 N | 176 6.36 W
|  | 51 48.00 N | 176 9.82 W | 1
|  | 51 48.00 N | 176 9.99 W
|  | 51 48.00 N | 176 16.19 W | 1
|  | 51 48.00 N | 176 24.71 W
|  | 51 48.00 N | 176 25.71 W | 1
|  | 51 45.58 N | 176 30.00 W
|  | 51 42.00 N | 176 30.00 W
|  | 51 42.00 N | 176 33.92 W | 1
|  | 51 41.22 N | 176 42.00 W
|  | 51 30.00 N | 176 42.00 W
|  | 51 30.00 N | 176 36.00 W
|  | 51 36.00 N | 176 36.00 W
|  | 51 36.00 N | 176 0.00 W
|  | 51 42.00 N | 176 0.00 W
|  | 51 42.00 N | 175 36.00 W
|  | 51 48.00 N | 175 36.00 W
|  | 51 48.00 N | 175 18.00 W
|  | 51 51.00 N | 175 18.00 W
|  | 51 51.00 N | 175 0.00 W
|  | 51 57.00 N | 175 0.00 W
|  | 51 57.00 N | 175 18.00 W
|  | 52 0.00 N | 175 18.00 W
|  | 52 0.00 N | 175 30.00 W
|  | 52 3.00 N | 175 30.00 W
|  | 52 3.00 N | 175 36.00 W
11 | Cape Adagdak | 52 6.00 N | 176 12.44 W
|  | 52 6.00 N | 176 30.00 W
|  | 52 3.00 N | 176 30.00 W
|  | 52 3.00 N | 176 42.00 W
|  | 52 0.00 N | 176 42.00 W
|  | 52 0.00 N | 176 46.64 W
|  | 51 57.92 N | 176 46.51 W | 1
|  | 51 54.00 N | 176 37.07 W
|  | 51 54.00 N | 176 18.00 W
|  | 52 0.00 N | 176 18.00 W
|  | 52 0.00 N | 176 12.00 W
|  | 52 2.85 N | 176 12.00 W | 1
|  | 52 4.69 N | 176 12.44 W
12 | Cape Kiguga/Round Head | 52 0.00 N | 176 53.00 W
|  | 52 0.00 N | 177 6.00 W
|  | 51 56.06 N | 177 6.00 W | 1
|  | 51 54.00 N | 177 2.84 W
|  | 51 54.00 N | 176 54.00 W
|  | 51 48.79 N | 176 54.00 W | 1
|  | 51 48.00 N | 176 50.35 W
|  | 51 48.00 N | 176 43.14 W | 1
|  | 51 55.69 N | 176 48.59 W
|  | 51 55.69 N | 176 53.00 W
13 | Adak Strait South | 51 42.00 N | 176 55.77 W
|  | 51 42.00 N | 177 12.00 W
|  | 51 30.00 N | 177 12.00 W
|  | 51 36.00 N | 177 6.00 W
|  | 51 36.00 N | 177 3.00 W
|  | 51 39.00 N | 177 3.00 W
|  | 51 39.00 N | 177 0.00 W
|  | 51 36.00 N | 177 0.00 W
|  | 51 36.00 N | 176 57.72 W | 3
14 | Bay of Waterfalls | 51 38.62 N | 176 54.00 W
|  | 51 36.00 N | 176 54.00 W
|  | 51 36.00 N | 176 55.99 W | 3
15 | Tanaga/Kanaga North | 51 54.00 N | 177 12.00 W
|  | 51 54.00 N | 177 19.93 W
|  | 51 51.71 N | 177 19.93 W
|  | 51 51.65 N | 177 29.11 W
|  | 51 54.00 N | 177 29.11 W
|  | 51 54.00 N | 177 30.00 W
|  | 51 57.00 N | 177 30.00 W
|  | 51 57.00 N | 177 42.00 W
|  | 51 54.00 N | 177 42.00 W
|  | 51 54.00 N | 177 54.00 W
|  | 51 50.92 N | 177 54.00 W | 1
|  | 51 48.00 N | 177 46.44 W
|  | 51 48.00 N | 177 42.00 W
|  | 51 42.59 N | 177 42.00 W | 1
|  | 51 45.57 N | 177 24.01 W
|  | 51 48.00 N | 177 24.00 W
|  | 51 48.00 N | 177 14.08 W | 4
16 | Tanaga/Kanaga South | 51 43.78 N | 177 24.04 W | 1
|  | 51 42.37 N | 177 42.00 W
|  | 51 42.00 N | 177 42.00 W
|  | 51 42.00 N | 177 50.04 W | 1
|  | 51 40.91 N | 177 54.00 W
|  | 51 36.00 N | 177 54.00 W
|  | 51 36.00 N | 178 0.00 W
|  | 51 38.62 N | 178 0.00 W | 1
|  | 51 42.52 N | 178 6.00 W
|  | 51 49.34 N | 178 6.00 W | 1
|  | 51 51.35 N | 178 12.00 W
|  | 51 48.00 N | 178 12.00 W
|  | 51 48.00 N | 178 30.00 W
|  | 51 42.00 N | 178 30.00 W
|  | 51 42.00 N | 178 36.00 W
|  | 51 36.26 N | 178 36.00 W | 1
|  | 51 35.75 N | 178 36.00 W
|  | 51 27.00 N | 178 36.00 W
|  | 51 27.00 N | 178 42.00 W
|  | 51 21.00 N | 178 42.00 W
|  | 51 21.00 N | 178 24.00 W
|  | 51 24.00 N | 178 24.00 W
|  | 51 24.00 N | 178 12.00 W
|  | 51 30.00 N | 178 12.00 W
|  | 51 30.00 N | 177 24.00 W
17 | Amchitka Pass East | 51 42.00 N | 178 48.00 W
|  | 51 42.00 N | 179 18.00 W
|  | 51 45.00 N | 179 18.00 W
|  | 51 45.00 N | 179 36.00 W
|  | 51 42.00 N | 179 36.00 W
|  | 51 42.00 N | 179 39.00 W
|  | 51 30.00 N | 179 39.00 W
|  | 51 30.00 N | 179 36.00 W
|  | 51 18.00 N | 179 36.00 W
|  | 51 18.00 N | 179 24.00 W
|  | 51 30.00 N | 179 24.00 W
|  | 51 30.00 N | 179 0.00 W
|  | 51 25.82 N | 179 0.00 W
|  | 51 25.85 N | 178 59.00 W
|  | 51 24.00 N | 178 58.97 W
|  | 51 24.00 N | 178 54.00 W
|  | 51 30.00 N | 178 54.00 W
|  | 51 30.00 N | 178 48.00 W
|  | 51 32.69 N | 178 48.00 W | 1
|  | 51 33.95 N | 178 48.00 W
18 | Amatignak I | 51 18.00 N | 178 54.00 W
|  | 51 18.00 N | 179 5.30 W | 1
|  | 51 18.00 N | 179 6.75 W
|  | 51 18.00 N | 179 12.00 W
|  | 51 6.00 N | 179 12.00 W
|  | 51 6.00 N | 179 0.00 W
|  | 51 12.00 N | 179 0.00 W
|  | 51 12.00 N | 178 54.00 W
19 | Amchitka Pass Center | 51 30.00 N | 179 48.00 W
|  | 51 30.00 N | 180 0.00 W
|  | 51 24.00 N | 180 0.00 W
|  | 51 24.00 N | 179 48.00 W
20 | Amchitka Pass West | 51 36.00 N | 179 54.00 E
|  | 51 36.00 N | 179 36.00 E
|  | 51 30.00 N | 179 36.00 E
|  | 51 30.00 N | 179 45.00 E
|  | 51 27.00 N | 179 48.00 E
|  | 51 24.00 N | 179 48.00 E
|  | 51 24.00 N | 179 54.00 E
21 | Petrel Bank | 52 51.00 N | 179 12.00 W
|  | 52 51.00 N | 179 24.00 W
|  | 52 48.00 N | 179 24.00 W
|  | 52 48.00 N | 179 30.00 W
|  | 52 42.00 N | 179 30.00 W
|  | 52 42.00 N | 179 36.00 W
|  | 52 36.00 N | 179 36.00 W
|  | 52 36.00 N | 179 48.00 W
|  | 52 30.00 N | 179 48.00 W
|  | 52 30.00 N | 179 42.00 E
|  | 52 24.00 N | 179 42.00 E
|  | 52 24.00 N | 179 36.00 E
|  | 52 12.00 N | 179 36.00 E
|  | 52 12.00 N | 179 36.00 W
|  | 52 24.00 N | 179 36.00 W
|  | 52 24.00 N | 179 30.00 W
|  | 52 30.00 N | 179 30.00 W
|  | 52 30.00 N | 179 24.00 W
|  | 52 36.00 N | 179 24.00 W
|  | 52 36.00 N | 179 18.00 W
|  | 52 42.00 N | 179 18.00 W
|  | 52 42.00 N | 179 12.00 W
22 | Rat I./Amchitka I. South | 51 21.00 N | 179 36.00 E
|  | 51 21.00 N | 179 18.00 E
|  | 51 18.00 N | 179 18.00 E
|  | 51 18.00 N | 179 12.00 E
|  | 51 23.77 N | 179 12.00 E | 1
|  | 51 24.00 N | 179 10.20 E
|  | 51 24.00 N | 179 0.00 E
|  | 51 36.00 N | 178 36.00 E
|  | 51 36.00 N | 178 24.00 E
|  | 51 42.00 N | 178 24.00 E
|  | 51 42.00 N | 178 6.00 E
|  | 51 48.00 N | 178 6.00 E
|  | 51 48.00 N | 177 54.00 E
|  | 51 54.00 N | 177 54.00 E
|  | 51 54.00 N | 178 12.00 E
|  | 51 48.00 N | 178 12.00 E
|  | 51 48.00 N | 178 17.09 E | 1
|  | 51 48.00 N | 178 20.60 E
|  | 51 48.00 N | 178 24.00 E
|  | 52 6.00 N | 178 24.00 E
|  | 52 6.00 N | 178 12.00 E
|  | 52 0.00 N | 178 12.00 E
|  | 52 0.00 N | 178 11.01 E | 1
|  | 52 0.00 N | 178 5.99 E
|  | 52 0.00 N | 177 54.00 E
|  | 52 9.00 N | 177 54.00 E
|  | 52 9.00 N | 177 42.00 E
|  | 52 0.00 N | 177 42.00 E
|  | 52 0.00 N | 177 48.00 E
|  | 51 54.00 N | 177 48.00 E
|  | 51 54.00 N | 177 30.00 E
|  | 51 51.00 N | 177 30.00 E
|  | 51 51.00 N | 177 24.00 E
|  | 51 45.00 N | 177 24.00 E
|  | 51 45.00 N | 177 30.00 E
|  | 51 48.00 N | 177 30.00 E
|  | 51 48.00 N | 177 42.00 E
|  | 51 42.00 N | 177 42.00 E
|  | 51 42.00 N | 178 0.00 E
|  | 51 39.00 N | 178 0.00 E
|  | 51 39.00 N | 178 12.00 E
|  | 51 36.00 N | 178 12.00 E
|  | 51 36.00 N | 178 18.00 E
|  | 51 30.00 N | 178 18.00 E
|  | 51 30.00 N | 178 24.00 E
|  | 51 24.00 N | 178 24.00 E
|  | 51 24.00 N | 178 36.00 E
|  | 51 30.00 N | 178 36.00 E
|  | 51 24.00 N | 178 48.00 E
|  | 51 18.00 N | 178 48.00 E
|  | 51 18.00 N | 178 54.00 E
|  | 51 12.00 N | 178 54.00 E
|  | 51 12.00 N | 179 30.00 E
|  | 51 18.00 N | 179 30.00 E
|  | 51 18.00 N | 179 36.00 E
23 | Amchitka I. North | 51 42.00 N | 179 12.00 E
|  | 51 42.00 N | 178 57.00 E
|  | 51 36.00 N | 178 56.99 E
|  | 51 36.00 N | 179 0.00 E
|  | 51 33.62 N | 179 0.00 E | 2
|  | 51 30.00 N | 179 5.00 E
|  | 51 30.00 N | 179 18.00 E
|  | 51 36.00 N | 179 18.00 E
|  | 51 36.00 N | 179 12.00 E
24 | Pillar Rock | 52 9.00 N | 177 30.00 E
|  | 52 9.00 N | 177 18.00 E
|  | 52 6.00 N | 177 18.00 E
|  | 52 6.00 N | 177 30.00 E
25 | Murray Canyon | 51 48.00 N | 177 12.00 E
|  | 51 48.00 N | 176 48.00 E
|  | 51 36.00 N | 176 48.00 E
|  | 51 36.00 N | 177 0.00 E
|  | 51 39.00 N | 177 0.00 E
|  | 51 39.00 N | 177 6.00 E
|  | 51 42.00 N | 177 6.00 E
|  | 51 42.00 N | 177 12.00 E
26 | Buldir | 52 6.00 N | 177 12.00 E
|  | 52 6.00 N | 177 0.01 E
|  | 52 6.00 N | 177 0.00 E
|  | 52 12.00 N | 177 0.00 E
|  | 52 12.00 N | 176 54.00 E
|  | 52 9.00 N | 176 54.00 E
|  | 52 9.00 N | 176 48.00 E
|  | 52 0.00 N | 176 48.00 E
|  | 52 0.00 N | 176 36.00 E
|  | 52 6.00 N | 176 36.00 E
|  | 52 6.00 N | 176 24.00 E
|  | 52 12.00 N | 176 24.00 E
|  | 52 12.00 N | 176 12.00 E
|  | 52 18.00 N | 176 12.00 E
|  | 52 18.00 N | 176 30.00 E
|  | 52 24.00 N | 176 30.00 E
|  | 52 24.00 N | 176 0.00 E
|  | 52 18.00 N | 176 0.00 E
|  | 52 18.00 N | 175 54.00 E
|  | 52 20.79 N | 175 54.00 E | 1
|  | 52 22.38 N | 175 54.00 E
|  | 52 24.00 N | 175 54.00 E
|  | 52 24.00 N | 175 48.00 E
|  | 52 30.00 N | 175 48.00 E
|  | 52 30.00 N | 175 36.00 E
|  | 52 36.00 N | 175 36.00 E
|  | 52 36.00 N | 175 24.00 E
|  | 52 24.00 N | 175 24.00 E
|  | 52 24.00 N | 175 30.00 E
|  | 52 18.00 N | 175 30.00 E
|  | 52 18.00 N | 175 36.00 E
|  | 52 24.00 N | 175 36.00 E
|  | 52 24.00 N | 175 42.00 E
|  | 52 12.00 N | 175 54.00 E
|  | 52 6.00 N | 175 54.00 E
|  | 52 6.00 N | 175 48.00 E
|  | 52 0.00 N | 175 48.00 E
|  | 52 0.00 N | 175 54.00 E
|  | 51 54.00 N | 175 54.00 E
|  | 51 54.00 N | 175 36.00 E
|  | 51 42.00 N | 175 36.00 E
|  | 51 42.00 N | 175 30.00 E
|  | 51 36.00 N | 175 30.00 E
|  | 51 36.00 N | 175 36.00 E
|  | 51 30.00 N | 175 36.00 E
|  | 51 30.00 N | 175 42.00 E
|  | 51 36.00 N | 175 42.00 E
|  | 51 36.00 N | 176 0.00 E
|  | 52 0.00 N | 176 0.00 E
|  | 52 0.00 N | 176 6.00 E
|  | 52 6.00 N | 176 6.00 E
|  | 52 6.00 N | 176 12.00 E
|  | 52 0.00 N | 176 12.00 E
|  | 52 0.00 N | 176 30.00 E
|  | 51 54.00 N | 176 30.00 E
|  | 51 54.00 N | 177 0.00 E
|  | 52 0.00 N | 177 0.00 E
|  | 52 0.00 N | 177 0.01 E
|  | 52 0.00 N | 177 12.00 E | 6
| Buldir donut | 51 48.00 N | 175 48.00 E | 5
|  | 51 48.00 N | 175 42.00 E | 5
|  | 51 45.00 N | 175 42.00 E | 5
|  | 51 45.00 N | 175 48.00 E | 5, 7
27 | Buldir Mound | 51 54.00 N | 176 24.00 E
|  | 51 54.00 N | 176 18.00 E
|  | 51 48.00 N | 176 18.00 E
|  | 51 48.00 N | 176 24.00 E
28 | Tahoma Canyon | 52 0.00 N | 175 18.00 E
|  | 52 0.00 N | 175 12.00 E
|  | 51 42.00 N | 175 12.00 E
|  | 51 42.00 N | 175 24.00 E
|  | 51 54.00 N | 175 24.00 E
|  | 51 54.00 N | 175 18.00 E
29 | Walls Plateau | 52 24.00 N | 175 24.00 E
|  | 52 24.00 N | 175 12.00 E
|  | 52 18.00 N | 175 12.00 E
|  | 52 18.00 N | 175 0.00 E
|  | 52 12.00 N | 175 0.00 E
|  | 52 12.00 N | 174 42.00 E
|  | 52 6.00 N | 174 42.00 E
|  | 52 6.00 N | 174 36.00 E
|  | 52 0.00 N | 174 36.00 E
|  | 52 0.00 N | 174 42.00 E
|  | 51 54.00 N | 174 42.00 E
|  | 51 54.00 N | 174 48.00 E
|  | 52 0.00 N | 174 48.00 E
|  | 52 0.00 N | 174 54.00 E
|  | 52 6.00 N | 174 54.00 E
|  | 52 6.00 N | 175 18.00 E
|  | 52 12.00 N | 175 24.00 E
30 | Semichi I | 52 30.00 N | 175 6.00 E
|  | 52 30.00 N | 175 0.00 E
|  | 52 36.00 N | 175 0.00 E
|  | 52 36.00 N | 174 48.00 E
|  | 52 42.00 N | 174 48.00 E
|  | 52 42.00 N | 174 33.00 E
|  | 52 36.00 N | 174 33.00 E
|  | 52 36.00 N | 174 24.00 E
|  | 52 39.00 N | 174 24.00 E
|  | 52 39.00 N | 174 0.00 E
|  | 52 42.00 N | 173 54.00 E
|  | 52 45.16 N | 173 54.00 E | 1
|  | 52 46.35 N | 173 54.00 E
|  | 52 54.00 N | 173 54.00 E
|  | 52 54.00 N | 173 30.00 E
|  | 52 48.00 N | 173 30.00 E
|  | 52 48.00 N | 173 36.00 E
|  | 52 36.00 N | 173 36.00 E
|  | 52 36.00 N | 173 54.00 E
|  | 52 18.00 N | 173 54.00 E
|  | 52 18.00 N | 174 30.00 E
|  | 52 30.00 N | 174 30.00 E
|  | 52 30.00 N | 174 48.00 E
|  | 52 24.00 N | 174 48.00 E
|  | 52 24.00 N | 175 6.00 E
31 | Agattu South | 52 18.00 N | 173 54.00 E
|  | 52 18.00 N | 173 24.00 E
|  | 52 9.00 N | 173 24.00 E
|  | 52 9.00 N | 173 36.00 E
|  | 52 6.00 N | 173 36.00 E
|  | 52 6.00 N | 173 54.00 E
32 | Attu I. North | 53 3.00 N | 173 24.00 E
|  | 53 3.00 N | 173 6.00 E
|  | 53 0.00 N | 173 6.00 E
|  | 53 0.00 N | 173 24.00 E
33 | Attu I. West | 52 54.00 N | 172 12.00 E
|  | 52 54.00 N | 172 0.00 E
|  | 52 48.00 N | 172 0.00 E
|  | 52 48.00 N | 172 12.00 E
34 | Stalemate Bank | 53 0.00 N | 171 6.00 E
|  | 53 0.00 N | 170 42.00 E
|  | 52 54.00 N | 170 42.00 E
|  | 52 54.00 N | 171 6.00 E
Note: Unless otherwise footnoted, each area is delineated by connecting in order the coordinates listed by straight lines. Except for the Amlia North/Seguam donut and the Buldir donut, each area delineated in the table is open to nonpelagic trawl gear fishing. The remainder of the entire Aleutian Islands subarea and the areas delineated by the coordinates for the Amlia North/Seguam and Buldir donuts are closed to nonpelagic trawl gear fishing, as specified at § 679.22. Unless otherwise noted, the last set of coordinates for each area is connected to the first set of coordinates for the area by a straight line. The projected coordinate system is North American Datum 1983, Albers.
¹ The connection of these coordinates to the next set of coordinates is by a line extending in a clockwise direction from these coordinates along the shoreline at mean lower-low water to the next set of coordinates.
² The connection of these coordinates to the next set of coordinates is by a line extending in a counter clockwise direction from these coordinates along the shoreline at mean lower-low water to the next set of coordinates.
³ The connection of these coordinates to the first set of coordinates for this area is by a line extending in a clockwise direction from these coordinates along the shoreline at mean lower-low water to the first set of coordinates.
⁴ The connection of these coordinates to the first set of coordinates for this area is by a line extending in a counter clockwise direction from these coordinates along the shoreline at mean lower-low water to the first set of coordinates.
⁵ The area specified by this set of coordinates is closed to fishing with nonpelagic trawl gear.
⁶ This set of coordinates is connected to the first set of coordinates listed for the area by a straight line.
⁷ The last coordinate for the donut is connected to the first set of coordinates for the donut by a straight line.

Table 25 to Part 679.—Bowers Ridge Habitat Conservation Zone
Area number | Name | Latitude | Longitude
1 | Bowers Ridge | 55 10.50 N | 178 27.25 E
|  | 54 54.50 N | 177 55.75 E
|  | 54 5.83 N | 179 20.75 E
|  | 52 40.50 N | 179 55.00 W
|  | 52 44.50 N | 179 26.50 W
|  | 54 15.50 N | 179 54.00 W
2 | Ulm Plateau | 55 5.00 N | 177 15.00 E
|  | 55 5.00 N | 175 60.00 E
|  | 54 34.00 N | 175 60.00 E
|  | 54 34.00 N | 177 15.00 E
Note: Each area is delineated by connecting the coordinates in the order listed by straight lines. The last set of coordinates for each area is connected to the first set of coordinates for the area by a straight line. Projected coordinate system is North American Datum 1983, Albers.

Table 26 to Part 679.—Gulf of Alaska Coral Habitat Protection Areas
Area number | Name | Latitude | Longitude
1 | Cape Ommaney 1 | 56 10.85 N | 135 5.83 W
|  | 56 11.18 N | 135 7.17 W
|  | 56 9.53 N | 135 7.68 W
|  | 56 9.52 N | 135 7.20 W
2 | Fairweather FS2 | 58 15.00 N | 138 52.58 W
|  | 58 15.00 N | 138 54.08 W
|  | 58 13.92 N | 138 54.08 W
|  | 58 13.92 N | 138 52.58 W
3 | Fairweather FS1 | 58 16.00 N | 138 59.25 W
|  | 58 16.00 N | 139 9.75 W
|  | 58 13.17 N | 138 59.25 W
4 | Fairweather FN2 | 58 24.10 N | 139 14.58 W
|  | 58 24.10 N | 139 18.50 W
|  | 58 22.55 N | 139 18.50 W
|  | 58 22.55 N | 139 14.58 W
5 | Fairweather FN1 | 58 27.42 N | 139 17.75 W
|  | 58 27.42 N | 139 19.08 W
|  | 58 26.32 N | 139 19.08 W
|  | 58 26.32 N | 139 17.75 W
Note: Each area is delineated by connecting the coordinates in the order listed by straight lines. The last set of coordinates for each area is connected to the first set of coordinates for the area by a straight line. Projected coordinate system is North American Datum 1983, Albers.

Table 27 to Part 679.—Gulf of Alaska Slope Habitat Conservation Areas
Area number | Name | Latitude | Longitude
1 | Yakutat | 58 47.00 N | 139 55.00 W
|  | 58 47.00 N | 140 32.00 W
|  | 58 37.00 N | 140 32.00 W
|  | 58 36.97 N | 139 54.99 W
2 | Cape Suckling | 59 50.00 N | 143 20.00 W
|  | 59 50.00 N | 143 30.00 W
|  | 59 40.00 N | 143 30.00 W
|  | 59 40.00 N | 143 20.00 W
3 | Kayak I. | 59 35.00 N | 144 0.00 W
|  | 59 40.00 N | 144 25.00 W
|  | 59 30.00 N | 144 50.00 W
|  | 59 25.00 N | 144 50.00 W
|  | 59 25.00 N | 144 2.00 W
4 | Middleton I. east | 59 32.31 N | 145 29.09 W
|  | 59 32.13 N | 145 51.14 W
|  | 59 20.00 N | 145 51.00 W
|  | 59 18.85 N | 145 29.39 W
5 | Middleton I. west | 59 14.64 N | 146 29.63 W
|  | 59 15.00 N | 147 0.00 W
|  | 59 10.00 N | 147 0.00 W
|  | 59 8.74 N | 146 30.16 W
6 | Cable | 58 40.00 N | 148 0.00 W
|  | 59 6.28 N | 149 0.28 W
|  | 59 0.00 N | 149 0.00 W
|  | 58 34.91 N | 147 59.85 W
7 | Albatross Bank | 56 16.00 N | 152 40.00 W
|  | 56 16.00 N | 153 20.00 W
|  | 56 11.00 N | 153 20.00 W
|  | 56 10.00 N | 152 40.00 W
8 | Shumagin I. | 54 51.49 N | 157 42.52 W
|  | 54 40.00 N | 158 10.00 W
|  | 54 35.00 N | 158 10.00 W
|  | 54 36.00 N | 157 42.00 W
9 | Sanak I. | 54 12.86 N | 162 13.54 W
|  | 54 0.00 N | 163 15.00 W
|  | 53 53.00 N | 163 15.00 W
|  | 54 5.00 N | 162 12.00 W
10 | Unalaska I. | 53 26.05 N | 165 55.55 W
|  | 53 6.92 N | 167 19.40 W
|  | 52 55.71 N | 167 18.20 W
|  | 53 13.05 N | 165 55.55 W
Note: Each area is delineated by connecting the coordinates in the order listed by straight lines. The last set of coordinates for each area is connected to the first set of coordinates for the area by a straight line. Projected coordinate system is North American Datum 1983, Albers.

[FR Doc. 06-5761 Filed 6-23-06; 2:06 pm]

BILLING CODE 3510-22-P